FEDERAL COMMUNICATIONS COMMISSION

47 CFR Part 11

[EB Docket No. 01-66]

Emergency Alert System

AGENCY: Federal Communications Commission.

ACTION: Correcting amendments.

SUMMARY: This document contains corrections to the final regulations which were published in the Federal Register of Tuesday, April 16, 2002 (67 FR 18502). The regulations related to the technical and operational requirements for the Emergency Alert System (EAS) contained in part 11 of the rules.

DATES: Effective December 17, 2002.

FOR FURTHER INFORMATION CONTACT: Kathy Berthot, Enforcement Bureau, Technical and Public Safety Division, at (202) 418-7454.

SUPPLEMENTARY INFORMATION:

Background

The final regulations that are the subject of these corrections revised the technical and operational requirements for the EAS. The revisions were intended to enhance the capabilities and performance of the EAS during state and local emergencies, thereby promoting public safety.

Need for Correction

As published, the final regulations inadvertently omitted the existing State and Territory FIPS number codes used in transmitting EAS messages.

List of Subjects in 47 CFR Part 11

Radio, Television

Federal Communications Commission.
Marlene H. Dortch,
Secretary.

Accordingly, 47 CFR part 11 is corrected by making the following corrective amendments:

PART 11—EMERGENCY ALERT SYSTEM (EAS)

1. The authority citation for part 11 continues to read as follows:

Authority: 47 U.S.C. 151, 154(i) and (o), 303(r), 544(g) and 606.

2. Section 11.31 is amended by revising paragraph (f) as follows:

§ 11.31 EAS Protocol.

* * * * *

(f) The State, Territory and Offshore (Marine Area) FIPS number codes (SS) are as follows. County FIPS numbers (CCC) are contained in the State EAS Mapbook.

| FIPS#
State:
AL | 01
AK | 02
AZ | 04
AR | 05
CA | 06
CO | 08
CT | 09
DE | 10
DC | 11
FL | 12
GA | 13
HI | 15
ID | 16
IL | 17
IN | 18
IA | 19
KS | 20
KY | 21
LA | 22
ME | 23
MD | 24
MA | 25
MI | 26
MN | 27
MS | 28
MO | 29
MT | 30
NE | 31
NV | 32
NH | 33
NJ | 34
NM | 35
NY | 36
NC | 37
ND | 38
OH | 39
OK | 40
OR | 41
PA | 42
RI | 44
SC | 45
SD | 46
TN | 47
TX | 48
UT | 49
VT | 50
VA | 51
WA | 53
WV | 54
WI | 55
WY | 56
Terr.:
AS | 60
FM | 64
GU | 66
MH | 68
MH | 68
PR | 72
PW | 70
UM | 74
VI | 78
Offshore (Marine Areas) ¹:
Eastern North Pacific Ocean, and along U.S. West Coast from Canadian border to Mexican border | 57
North Pacific Ocean near Alaska, and along Alaska coastline, including the Bering Sea and the Gulf of Alaska | 58
Central Pacific Ocean, including Hawaiian waters | 59
South Central Pacific Ocean, including American Samoa waters | 61
Western Pacific Ocean, including Mariana Island waters | 65
Western North Atlantic Ocean, and along U.S. East Coast, from Canadian border south to Currituck Beach Light, N.C | 73
Western North Atlantic Ocean, and along U.S. East Coast, south of Currituck Beach Light, N.C., following the coastline into Gulf of Mexico to Bonita Beach, FL., including the Caribbean | 75
Gulf of Mexico, and along the U.S. Gulf Coast from the Mexican border to Bonita Beach, FL | 77
Lake Superior | 91
Lake Michigan | 92
Lake Huron | 93
Lake St. Clair | 94
Lake Erie | 96
Lake Ontario | 97
St. Lawrence River above St. Regis | 98
¹ Effective May 16, 2002, broadcast stations, cable systems and wireless cable systems may upgrade their existing EAS equipment to add these marine area location codes on a voluntary basis until the equipment is replaced. All models of EAS equipment manufactured after August 1, 2003, must be capable of receiving and transmitting these marine area location codes. Broadcast stations, cable systems and wireless cable systems which replace their EAS equipment after February 1, 2004, must install equipment that is capable of receiving and transmitting these location codes.

[FR Doc. 02-31712 Filed 12-16-02; 8:45 am]

BILLING CODE 6712-01-P